DEPARTMENT OF THE INTERIOR

Bureau of Land Management

[MT-090-1430EU]

Notice of Intent To Prepare an Amendment to the Judith-Valley-Phillips Resource Management Plan and Associated Environmental Assessment, Montana

AGENCY: Bureau of Land Management, Interior.

ACTION: Notice of intent to prepare an amendment to the Judith-Valley-Phillips Resource Management Plan and associated Environmental Assessment, Montana.

SUMMARY: The Bureau of Land Management's Malta Field Office will consider amending the September 1994 Judith-Valley-Phillips Resource Management Plan (RMP), (RMP) to address a land exchange with the Valley County Commissioners. An environmental assessment (EA) will analyze the categorization of 0.179 acres of public land within the city limits of Glasgow, MT as a disposal parcel which would be exchanged for 640 acres of county land.

DATES: Comments and recommendations on the amendment under consideration should be received on or before June 7, 2002. Comments, including names and street addresses of respondents, will be available for public review at the Malta Field Office, during regular business hours. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Address all written comments to Bureau of Land Management, Malta Field Office, 501 South 2nd Street East, HC 65, Box 5000, Malta, Montana 59538-0047.

FOR FURTHER INFORMATION CONTACT: Bruce W. Reed, 406-654-5100.

SUPPLEMENTARY INFORMATION: The public land to be addressed in the EA is within the City of Glasgow, MT at 731 1st Avenue South. Valley County intends to use the site which contains a metal building as a bus barn for the Valley County Transit system which is primarily for the benefit of senior citizens. The public land is not currently identified for disposal in the RMP. The county land is located adjacent to the Bitter Creek Wilderness Study Area and the proposed Bitter Creek Area of Critical Environmental Concern.

Dated: February 21, 2002.
(Authority: Sec. 202, Pub. L. 94-579, 90 Stat. 2747 (43 U.S.C. 1712))
Bruce W. Reed,
Field Manager, Bureau of Land Management.

[FR Doc. 02-11432 Filed 5-7-02; 8:45 am]

BILLING CODE 4310-DN-P